DEPARTMENT OF HOMELAND SECURITY

Coast Guard

33 CFR Part 100

[Docket No. USCG-2019-0763]

Special Local Regulations for Marine Events; San Francisco Bay Navy Fleet Week Parade of Ships and Blue Angels Demonstration, San Francisco, CA

AGENCY: Coast Guard, DHS.

ACTION: Notice of enforcement of regulation.

SUMMARY: The Coast Guard will enforce the special local regulations in the navigable waters of the San Francisco Bay for the San Francisco Bay Navy Fleet Week Parade of Ships and Blue Angels Demonstration from October 10 through October 13, 2019. This action is necessary to ensure the safety of event participants and spectators. During the enforcement period, unauthorized persons or vessels are prohibited from entering into, transiting through, or anchoring in the regulated area, unless authorized by the Patrol Commander (PATCOM).

DATES: The regulations in 33 CFR 100.1105 will be enforced from 12:30 p.m. until 5 p.m. on October 10, 2019; from 10:30 a.m. until 4 p.m. on October 11, 2019; and from 11:30 p.m. until 4 p.m. on each of two days, October 12 and October 13, 2019, as identified in the SUPPLEMENTARY INFORMATION section below.

FOR FURTHER INFORMATION CONTACT: If you have questions about this notice of enforcement, call or email Lieutenant Jennae Cotton, Waterways Management, U.S. Coast Guard; telephone (415) 399-3585, email SFWaterways@uscg.mil.

SUPPLEMENTARY INFORMATION: The Coast Guard will enforce the special local regulation for the annual San Francisco Bay Navy Fleet Week Parade of Ships and Blue Angels Demonstration in 33 CFR 100.1105.

Regulations for the Navy Parade of Ships will be enforced from 10:30 a.m. until 12 p.m. on October 11, 2019; the U.S. Navy Blue Angels Activities will be enforced from 12:30 p.m. until 5 p.m. on October 10, 2019, from 12 p.m. until 4 p.m. on October 11, 2019, and from 11:30 p.m. until 4 p.m. on each of two days, October 12 and October 13, 2019.

Regulated area “Alpha” will be enforced during the Navy Parade of Ships and is bounded by a line connecting the following points:

Latitude | Longitude
37°48′40″ N | 122°28′38″ W
37°49′10″ N | 122°28′41″ W
37°49′31″ N | 122°25′18″ W
37°49′06″ N | 122°24′08″ W
37°47′53″ N | 122°22′42″ W
37°46′00″ N | 122°22′00″ W
37°46′00″ N | 122°23′07″ W

And thence along the shore to the point of beginning.

Under the provisions of 33 CFR 100.1105, except for persons or vessels authorized by the PATCOM, in regulated area “Alpha” no person or vessel may enter the parade route or remain within 500 yards of any Navy parade vessel. No person or vessel shall anchor, block, loiter in, or impede the through transit of ship parade participants or official patrol vessels in regulated area “Alpha.”

Regulated area “Bravo” will be enforced during the Blue Angels Demonstration and is bounded by a line connecting the following points:

Latitude | Longitude
37°48′27.5″ N | 122°24′04″ W
37°49′31″ N | 122°24′18″ W
37°49′00″ N | 122°27′52″ W
37°48′19″ N | 122°27′40″ W

And thence along the pierheads and bulwarks to the point of beginning.

Except for persons or vessels authorized by the PATCOM, no person or vessel may enter or remain within regulated area “Bravo.”

When hailed or signaled by U.S. Coast Guard patrol personnel by siren, radio, flashing light, or other means, a person or vessel shall come to an immediate stop. Persons or vessels shall comply with all directions given; failure to do so may result in expulsion from the area, citation for failure to comply, or both. The Coast Guard may be assisted by other Federal, State, or local law enforcement agencies in enforcing this regulation.

The PATCOM shall be designated by the Commander, Coast Guard Sector San Francisco, California. The PATCOM is empowered to forbid and control the movement of all vessels in the regulated areas.

This document is issued under authority of 33 U.S.C. 1233. In addition to this notification in the Federal Register, the Coast Guard will provide the maritime community with extensive advance notification of the regulated areas and their enforcement periods via Notice to Mariners.

Dated: September 30, 2019.
Howard H. Wright,
Captain, U.S. Coast Guard, Alternate Captain of the Port, San Francisco.

[FR Doc. 2019-21765 Filed 10-8-19; 8:45 am]

BILLING CODE 9110-04-P